DEPARTMENT OF HEALTH AND HUMAN SERVICES

Centers for Disease Control and Prevention

Advisory Committee to the Director (ACD), Centers for Disease Control and Prevention—Health Disparities Subcommittee (HDS)

In accordance with section 10(a)(2) of the Federal Advisory Committee Act (Pub. L. 92-463), the Centers for Disease Control and Prevention (CDC) announces the following meeting of the aforementioned subcommittee:

Time and Date: 11:00 a.m.-12:30 p.m. EST, February 26, 2015.

Place: This meeting will be held by teleconference.

Status: This meeting is open to the public, limited only by the availability of telephone ports. The public is welcome to participate during the public comment, which is tentatively scheduled from 12:15 to 12:30 p.m. To participate in the teleconference, please dial (866) 763-0273 Passcode: 6158968.

Purpose: The Subcommittee will provide advice to the CDC Director through the ACD on strategic and other health disparities and health equity issues and provide guidance on opportunities for CDC.

Matters for Discussion: The Health Disparities Subcommittee members will discuss progress toward implementation of the Health Disparities Subcommittee recommendations and discussion of the Healthy People 2020 progress review on social determinants of health and LGBT health.

The agenda is subject to change as priorities dictate.

Contact Person for More Information: Leandris Liburd, Ph.D., M.P.H., M.A., Designated Federal Officer, Health Disparities Subcommittee, Advisory Committee to the Director, CDC, 1600 Clifton Road NE., M/S K-77, Atlanta, Georgia 30333 Telephone (770) 488-8343, Email: LEL1@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention (CDC).

[FR Doc. 2015-01766 Filed 1-29-15; 8:45 am]

BILLING CODE 4163-18-P